DEPARTMENT OF COMMERCE

International Trade Administration

[A-201-822]

Stainless Steel Sheet and Strip in Coils From Mexico; Correction Notice to Amended Final Results of Antidumping Duty Administrative Review

AGENCY: Import Administration, International Trade Administration, Department of Commerce.

DATES: Effective Date: March 11, 2011.

FOR FURTHER INFORMATION CONTACT: Patrick Edwards, Brian Davis, or Angelica Mendoza, AD/CVD Operations, Office 7, Import Administration, International Trade Administration, U.S. Department of Commerce, 14th Street and Constitution Avenue, NW., Washington, DC 20230; telephone: (202) 482-8029, (202) 482-7924, and (202) 482-3019, respectively.

Correction

On February 18, 2011, the Department published a notice of amended final results of administrative review for stainless steel sheet and strip in coils from Mexico. See Stainless Steel Sheet and Strip in Coils from Mexico; Notice of Amended Final Results of Antidumping Duty Administrative Review, 76 FR 9542 (February 18, 2011) (Amended Final Results). The Amended Final Results states incorrectly that cash deposit requirements, “continue to be effective on any entries made on or after February 14, 2011, the date of publication of these amended final results.” In addition, the Amended Final Results incorrectly refer to a 21.14 percent final results weighted-average margin calculated for ThyssenKrupp Mexinox S.A. de C.V. (Mexinox).

The Amended Final Results are hereby corrected to read that cash deposit requirements, “continue to be effective on any entries made on or after the date of publication of these amended final results.” The Amended Final Results are also hereby corrected to refer to Mexinox's weighted-average margin of 21.16 percent determined by the Department in its final results of this review. See Stainless Steel Sheet and Strip in Coils from Mexico; Final Results of Antidumping Duty Administrative Review, 76 FR 2332 (January 13, 2011).

This notice is published in accordance with section 777(i) of the Tariff Act of 1930, as amended.

Dated: March 7, 2011.
Ronald K. Lorentzen,
Deputy Assistant Secretary for Import Administration.

[FR Doc. 2011-5682 Filed 3-10-11; 8:45 am]

BILLING CODE 3510-DS-P